DEPARTMENT OF HEALTH AND HUMAN SERVICES

Administration for Children and Families

Proposed Information Collection Activity; Comment Request

Title: DHHS/ACF/OPRE Head Start Classroom-based Approaches and Resources for Emotion and Social skill promotion (CARES) project: Tracking Participants.

OMB No.: 0970-0364.

Description: The Head Start Classroom-based Approaches and Resources for Emotion and Social skill promotion (CARES) project is an evaluation of three social emotional program enhancements within Head Start settings serving three- and four-year-old children. This project focuses on identifying the central features of effective programs to provide the information federal policy makers and Head Start providers will need if they are to increase Head Start's capacity to improve the social and emotional skills and school readiness of preschool age children. The Head Start CARES project completed data collection for cohort (1) 4-year-olds and cohort (2) 3-year-olds in spring of 2011 and cohort (2) 4-year-olds in the spring of 2012.

ACF is proposing to collect information necessary to identify CARES study respondents' current location and follow-up with respondents until the children reach third grade. In support of an examination of third grade outcomes, information must be collected from parents or guardians until the third grade year. Therefore, in the spring of 2013 tracking of all children will be necessary, in the spring of 2014 for the three- and four-year-old children in cohort 2 only, and in the spring of 2015 the three-year-olds in cohort 2 only. To enable the opportunity to conduct data collection in 3rd grade, complete tracking information on the full sample, both ages and cohorts, for all years until third grade is necessary. In addition to location and contact information, a small set of additional items will provide information on the parents' perception of the children's well-being.

Respondents: The respondents to the tracking phone calls will be low-income parents and their Head Start children. This is a three-year information collection request.

Annual Burden Estimates
Instrument | Annual number of respondents | Number of responses per respondent | Average burden hours per response | Estimated annual burden hours
Parent Survey Cohort 1-4 year olds | 201 | 1 | 0.33 | 66
Parent Survey Cohort 2-4 year olds | 690 | 2 | 0.33 | 1380
Parent Survey Cohort 2-3 year olds | 320 | 3 | 0.33 | 106
Total |  |  |  | 1552

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Reports Clearance Officer.

[FR Doc. 2012-20207 Filed 8-16-12; 8:45 am]

BILLING CODE 4184-22-P